DEPARTMENT OF ENERGY

Federal Energy Regulatory Commission

[Docket No. ER03-182-001, et al.]

Phoenix Energy Associates, L.L.C., et al.; Electric Rate and Corporate Filings

December 30, 2002.

The following filings have been made with the Commission. The filings are listed in ascending order within each docket classification.

1. Phoenix Energy Associates, L.L.C.

[Docket No. ER03-182-001]

Take notice that on December 23, 2002, Phoenix Energy Associates, L.L.C. tendered for filing with the Federal Energy Regulatory Commission (Commission) in response to a deficiency letter from the Commission, an amendment to its Rate Schedule, a contact number for the corporation and a waiver of the effective date for the Rate Schedule.

Comment Date: January 13, 2003.

2. XL Weather & Energy Inc.

[Docket No. ER03-330-000]

Take notice that on December 23, 2002, XL Weather & Energy Inc. (XL Weather) submitted for filing a revised market-based rate schedule (Rate Schedule) reflecting its name change from Element Re Capital Products Inc. XL Weather requests a waiver of the 60-day prior notice requirement to allow its revised Rate Schedule to become effective as of December 11, 2002

Comment Date: January 13, 2003.

3. PJM Interconnection, L.L.C.

[Docket No. ER03-331-000]

Take notice that on December 24, 2002, PJM Interconnection, L.L.C. (PJM), submitted for filing amendments to the Appendix of Attachment K of the PJM Open Access Transmission Tariff and Schedule 1 of the Amended and Restated Operating Agreement to modify the provisions relating to the determination of eligibility to receive Operating Reserves credits during Maximum Generation Emergency conditions.

PJM states that copies of this filing were served upon all PJM members and each state electric utility regulatory commission in the PJM region.

Comment Date: January 14, 2003.

4. PJM Interconnection, L.L.C.

[Docket No. ER03-332-000]

Take notice that on December 24, 2002, PJM Interconnection, L.L.C. (PJM), submitted for filing amendments to the governance provisions of the PJM Operating Agreement to: (1) Add two new members to the PJM Board of Managers (Board); (2) establish a Nominating Committee to choose candidates for Board vacancies; and (3) permit election of Board members and the Chair and Vice Chair of the Members Committee by a simple majority of voting sectors.

PJM requests an effective date of December 25 for the amendments. PJM also states that copies of this filing were served upon all PJM members and each state electric utility regulatory commission in the PJM region.

Comment Date: January 14, 2003.

5. Southern California Edison Company

[Docket No. ER03-333-000]

Take notice that on December 24, 2002, Southern California Edison Company (SCE) tendered for filing the Amended and Restated Service Agreement For Wholesale Distribution Service (Agreement) between SCE and SCE QF Resources. SCE respectfully requests an effective date of December 25, 2002 for the revisions.

The Agreement serves to provide the terms and conditions under which SCE provides Distribution Service under SCE's FERC Electric Tariff, Original Volume No. 5.

SCE states that copies of this filing were served upon the Public Utilities Commission of the State of California and SCE QF Resources.

Comment Date: January 14, 2003.

6. American Transmission Company LLC

[Docket No. ER03-334-000]

Take notice that on December 24, 2002, American Transmission Company LLC (ATCLLC) tendered for filing a Generation-Transmission Interconnection Agreement between ATCLLC and Madison Gas and Electric Company.

ATCLLC requests an effective date of November 24, 2002.

Comment Date: January 14, 2003.

7. Ameren Services Company

[Docket No. ER03-335-000]

Take notice that on December 24, 2002, Ameren Services Company (ASC) tendered for filing an executed Service Agreement for Firm Point-to-Point Services between ASC and Duke Energy Trading and Marketing, L.L.C. ASC asserts that the purpose of the Agreement is to permit ASC to provide transmission service to Duke Energy Trading and Marketing, L.L.C. pursuant to Ameren's Open Access Transmission Tariff.

Comment Date: January 14, 2003.

8. Ameren Services Company

[Docket No. ER03-336-000]

Take notice that on December 24, 2002, Ameren Services Company (ASC) tendered for filing an unexecuted Service Agreement for Firm Point-to-Point Services between ASC and Ameren Energy. ASC asserts that the purpose of the Agreement is to permit ASC to provide transmission service to Ameren Energy pursuant to Ameren's Open Access Transmission Tariff.

Comment Date: January 14, 2003.

9. Bangor Hydro-Electric Company

[Docket No. ER03-337-000]

Take notice that on December 23, 2002 Bangor Hydro-Electric Company (Bangor Hydro) submitted for filing, pursuant to section 205 of the Federal Power Act, an executed Entitlement and Firm Energy Agreement between Bangor Hydro and Constellation Power Source, Inc. (CPS).

Bangor Hydro states that copies of this filing were served upon CPS, Constellation Power Source Maine, LLC, the Maine Public Utilities Commission, and the Maine Public Advocate.

Comment Date: January 13, 2003.

10. Southern California Edison Company

[Docket No. ER03-338-000]

Take notice that on December 23, 2002, Southern California Edison Company (SCE) tendered for filing with the Federal Energy Regulatory Commission (Commission) revisions to its Transmission Owner Tariff (TO Tariff), FERC Electric Tariff, Substitute First Revised Original Volume No. 6, to reflect (1) the annual update of the Transmission Revenue Balancing Account Adjustment and the Transmission Access Charge Balancing Account Adjustment; (2) the inclusion in the TO Tariff of rates for transmission service applicable to certain specified existing transmission contracts; (3) the Commission's Opinion No. 458-A in Docket No. ER97-2355-002; and (4) SCE's revised interconnection procedures which were accepted by the Commission's June 4, 2002 order in SCE's Docket Nos. EL00-95-025 and EL00-98-024.

SCE states that copies of this filing were served upon the Public Utilities Commission of the State of California, the California Independent System Operator, the service list in Docket No. ER97-2355-002, the Cities of Azusa, Banning, Colton, Riverside, California, the Department of Water and Power of the City of Los Angeles, California, and all Scheduling Coordinators certified by the California Independent System Operator.

Comment Date: January 13, 2003.

11. San Diego Gas & Electric Company

[Docket No. ER03-339-000]

Take notice that on December 23, 2002, San Diego Gas & Electric Company (SDG&E) tendered for filing with the Federal Energy Regulatory Commission (Commission) Original Volume No. 7 to its Transmission Owner Tariff, superseding Volume No. 6 in its entirety. Volume No. 7 incorporates changes resulting from prior Commission orders that accepted for filing SDG&E's revised generator interconnection procedures, revised Reliability Must Run rates, and Supplemental Transmission Surcharge Rates for upgrades to its Imperial Valley-La Rosita transmission line and the costs of increased security for its transmission system. Along with these approved changes, SDG&E has eliminated certain rate schedules and added a new schedule with the approval of the California Public Utilities Commission, eliminated references to the California Power Exchange, eliminated Ancillary Services it no longer offers since divestiture of its generation assets, and updated the contact information for regulatory filings.

SDG&E requests that the Commission waive the sixty-day notice requirement and establish an effective date of December 31, 2002 for Volume No. 7.

SDG&E states that copies of the filing have been served on the California Public Utilities Commission and the California Independent System Operator Corporation.

Comment Date: January 13, 2003.

12. Calpine PowerAmerica—OR, LLC, Calpine Power America—CA, LLC

[Docket Nos. ER03-341-000 and ER03-342-000]

Take notice that on December 26, 2002, Calpine PowerAmerica—CA, LLC tendered for filing, under section'205 of the Federal Power Act (FPA), a request for authorization to make wholesale sales of electric energy, capacity, replacement reserves, and ancillary services at market-based rates, to reassign transmission capacity, and to resell firm transmission rights.

Comment Date: January 16, 2003.

13. Aquila, Inc.

[Docket No. ER03-344-000]

Take notice that on December 27, 2002, Aquila, Inc. (Aquila), filed with the Federal Energy Regulatory Commission (Commission), pursuant to Section 205 of the Federal Power Act, 16 U.S.C. 824d, and part 35 of the Commission Regulations, 18 CFR part 35, an Interconnection Agreement between Aquila, Inc. d/b/a WestPlains Energy-Kansas and Russell Municipal Power and Light dated as of December 9, 2002. The Interconnection Agreement is filed as Service Agreement No. 104 to Aquila FERC Electric Tariff, Third Revised Volume No. 26.

Comment Date: January 17, 2003.

14. New England Power Pool

[Docket No. ER03-345-000] Take notice that on December 27, 2002, the New England Power Pool (NEPOOL) Participants Committee submitted changes to Appendix E to Market Rule 1 (Appendix E), entitled “Load Response Program.” Appendix E has been revised to change the basis for allocating to Participants the costs of the NEPOOL Load Response Program from Load Obligation to Network Load. NEPOOL has requested that the proposed changes become effective February 25, 2003 for transactions on and after the applicable effective dates set forth in Market Rule 1 and Appendix E (the SMD Effective Date and the effective date for the Day-Ahead Demand Response Program).

The NEPOOL Participants Committee states that copies of these materials were sent to the NEPOOL Participants and the New England state governors and regulatory commissions.

Comment Date: January 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 03-296 Filed 1-3-03; 8:45 am]

BILLING CODE 6717-01-P